COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: September 8, 2024.

ADDRESSES: Committee for Purchase From People Who Are Blind or Severely Disabled, 355 E Street SW, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

7530-01-346-4295—Folder, File, Admin Record, “COUNSELLING/EVALUATION/REHABILITATION”, Heavy Duty, Kraft Brown, Letter

Authorized Source of Supply: LC Industries, Inc., Durham, NC

Authorized Source of Supply: CLOVERNOOK CENTER FOR THE BLIND AND VISUALLY IMPAIRED, Cincinnati, OH

Contracting Activity: STRATEGIC ACQUISITION CENTER, FREDERICKSBURG, VA

NSN(s)—Product Name(s):

8415-00-NIB-1374—Face Covering/Mask, Universally Sized, Olive Green, PG/5

8415-00-NIB-1375—Face Covering/Mask, Universally Sized, Brown, PG/5

8415-00-NIB-1376—Face Covering/Mask, Universally Sized, Tan, PG/5

8415-00-NIB-1378—Face Covering/Mask, Universally Sized, Camo, PG/5

8415-00-NIB-1379—Face Covering/Mask, Universally Sized, Black, PG/5

8415-00-NIB-1380—Face Covering/Mask, Universally Sized, Olive Green, PG/50

8415-00-NIB-1381—Face Covering/Mask, Universally Sized, Brown, PG/50

8415-00-NIB-1382—Face Covering/Mask, Universally Sized, Tan, PG/50

8415-00-NIB-1383—Face Covering/Mask, Universally Sized, Camo, PG/50

8415-00-NIB-1384—Face Covering/Mask, Universally Sized, Black, PG/50

Authorized Source of Supply: Southeastern Kentucky Rehabilitation Industries, Inc., Corbin, KY

Authorized Source of Supply: Blind Industries & Services of Maryland, Baltimore, MD

Authorized Source of Supply: Alphapointe, Kansas City, MO

Authorized Source of Supply: INDUSTRIES OF THE BLIND, INC, Greensboro, NC

Authorized Source of Supply: Winston-Salem Industries for the Blind, Inc, Winston-Salem, NC

Contracting Activity: COMMITTEE FOR PURCHASE FROM PEOPLE WHO ARE BLIND OR SEVERELY DISABLED, ARLINGTON, VA

Michael R. Jurkowski,
Director, Business Operations.

[FR Doc. 2024-17732 Filed 8-8-24; 8:45 am]

BILLING CODE 6353-01-P